DEPARTMENT OF LABOR

Employment and Training Administration

[TA-W-52,177]

Redman Knitting, Inc., Ridgewood, NY; Notice of Revised Determination on Remand

The United States Court of International Trade (USCIT) granted the Department of Labor's request for voluntary remand of the negative determination on reconsideration in Former Employees of Redman Knitting, Inc. v. U.S. Secretary of Labor (Court No. 03-00848).

The Department's denial of Trade Adjustment Assistance (TAA) for the workers of Redman Knitting, Inc., Ridgewood, New York was issued on July 29, 2003 and was published in the Federal Register on August 14, 2003 (68 FR 48643). That investigation indicated that Redman Knitting produced knitted fabric, and there were no increased imports of articles like or directly competitive with knitted fabric by either the subject company or its customers, and no shift of production abroad during the relevant period.

By letter dated September 2, 2003, a petitioner requested administrative reconsideration of the negative determination, alleging that imports of knitted sweaters adversely affected domestic production of knitted fabric. The Notice of Negative Determination Regarding Application for Reconsideration was issued on September 25, 2003 and was published in the Federal Register on October 10, 2003 (68 FR 58716).

The request for reconsideration was denied because a final product (sweaters) is not “like or directly competitive” with its raw material (knitted fabric) and, therefore, any increased imports of the final product cannot be used to certify workers producing the raw material. The Department also determined that the subject company's major declining customers are not TAA-certified, and that the subject worker group is therefore not eligible under secondary impact.

In response to the petitioner's appeal to the U.S. Court of International Trade, the Department requested, and was granted, a voluntary remand.

In the remand investigation, the Department requested from the company information about the article(s) produced at the subject facility, the plant production process, and additional customer information. A review of the information submitted during the remand investigation and previously submitted documents revealed that Redman Knitting, which was thought to have produced only knitted fabric, was in fact engaged in activities related to the production of knitted sweaters.

Since it has been determined that the workers were engaged in the production of sweaters, a customer survey was conducted to determine whether imports of sweaters increased during the relevant time period. The surveyed revealed that the subject company's major declining customers increased their reliance on imports of sweaters during the relevant period.

Conclusion

After careful review of the additional facts obtained on the current remand, I conclude that there were increased imports of knitted sweaters like or directly competitive with those produced at the subject firm, and that the increases contributed importantly to the worker separations and sales or production declines at the subject facility. In accordance with the provisions of the Trade Act, I make the following certification:

All workers of Redman Knitting, Inc., Ridgewood, New York, who became totally or partially separated from employment on or after May 20, 2002, through two years from the issuance of this revised determination, are eligible to apply for adjustment assistance under Section 223 of the Trade Act of 1974.

Signed at Washington, DC, this 28th day of May, 2004.
Elliott S. Kushner,
Certifying Officer, Division of Trade Adjustment Assistance.

[FR Doc. 04-12886 Filed 6-7-04; 8:45 am]

BILLING CODE 4510-30-P